DEPARTMENT OF DEFENSE

Department of the Army

Army Science Board; Notice of Open Meeting

In accordance with section 10(a)(2) of the Federal Advisory Committee Act (Pub. L. 92-463), announcement is made of the following Committee Meeting:

Name of Committee: Army Science Board (ASB).

Date of Meeting: 4, 5 & 6 June 2002.

Time of Meeting: 0730-1700, 4 June 2002; 0800-1700, 5 June 2002; 0730-1630, 6 June 2002.

Place: SAIC.

Agenda: The Army Science Board's (ASB) Study “Ensuring the Financial Viability of the Objective Force” will have a Plenary Meeting on 4, 5 and 6 June. The meeting will be held at SAIC, 4001 Fairfax Drive, Arlington, VA. The Meeting will begin at 0730 hours on the 4th and end at approximately 1630 hours on June 6th.

FOR FURTHER INFORMATION CONTACT: Major Robert Grier, 703-604-7478 or e-mail: Robert.grier@saalt.army.mil.

Wayne Joyner,
Program Support Specialist, Army Science Board.

[FR Doc. 02-13640 Filed 5-30-02; 8:45 am]

BILLING CODE 3710-08-M